NUCLEAR REGULATORY COMMISSION

Request To Amend a License for the Export of Radioactive Waste

Pursuant to 10 CFR 110.70(b)(4) “Public notice of receipt of an application,” please take notice that the Nuclear Regulatory Commission has received the following request for an export license. Copies of the request can be accessed through the Public Electronic Reading Room (PERR) link http://www.nrc.gov/reading-rm/adams.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export radioactive waste as defined in 10 CFR Part 110 and noticed herein, the Commission does not evaluate the health, safety or environmental effects in the recipient nation of the material to be exported. The information concerning the application follows.

NRC Application to Amend License for the Export of Radioactive Waste
Name of applicant, Date of application Date received, application number, docket number | Descripation of material: Material type | Descripation of material: Total quantity (Qty) | End use | Country of destination
Diversified Scientific Services, Inc., (DSSI), December 21, 2005 December 28, 2005, XW002/03, 11004983 | Class A Radioactive Mixed Waste—(in solid form) | A maximum total quantity not to exceed 30 curies (and not more than 10 curies per year) of Class A radioactive mixed waste (primarily mixed fission product radionuclides) contained in baghouse salts and ash, which result from processing liquid waste received from Ontario Power under NRC import license IW004 | Amendment to extend the expiration date from 12/31/05 to 12/31/07 | Canada.

Dated this 20th day of January, 2006, at Rockville, Maryland.
For the Nuclear Regulatory Commission.
Margaret M. Doane,
Deputy Director, Office of International Programs.

[FR Doc. E6-1040 Filed 1-26-06; 8:45 am]

BILLING CODE 7590-01-P